NUCLEAR REGULATORY COMMISSION

[Docket Nos. 50-206, 50-361, and 50-362]

Southern California Edison Company, San Onofre Nuclear Generating Station; Exemption From Certain Low-Level Waste Shipment Tracking Requirements in 10 CFR Part 20 Appendix G

1.0 Background

The Southern California Edison Company (SCE) is the licensee and holder of Facility Operating License Nos. DPR-13, NPF-10, and NPF-15 issued for San Onofre Nuclear Generating Station (SONGS) Units 1, 2, and 3, respectively, located in San Diego County, California. SONGS Unit 1 is a permanently shutdown nuclear reactor facility while Units 2 and 3 are operating reactors. Beginning around 1999, the amount of radioactive waste shipped from the site significantly increased. The majority of the radioactive waste generated by the site is related to Unit 1 decommissioning activities. Inherent to the decommissioning process, large volumes of slightly contaminated concrete rubble and debris are generated that require shipment for disposal in offsite low-level radioactive waste burial sites. Due primarily to the volume of radioactive waste, SCE has encountered an increase in the number of routine shipments that take longer than 20 days from transfer to the shipper to receipt acknowledgment from the burial site. Each shipment with receipt notifications greater than 20 days requires a special investigation and report to the Nuclear Regulatory Commission (NRC) which the licensee believes to be burdensome and unnecessary to meet the intent of the regulation.

2.0 Request/Action

In a letter to the Commission dated January 26, 2004, SCE requested an exemption from the requirements in 10 CFR Part 20, Appendix G, Section III.E, to investigate and file a report to the NRC if shipments of low-level radioactive waste are not acknowledged by the intended recipient within 20 days after transfer to the shipper. This exemption would extend the time period that can elapse during shipments of low-level radioactive waste before SCE is required to investigate and file a report to the NRC from 20 days to 35 days. The exemption would be limited to rail and combination truck/rail shipping methods. The exemption request is based on a statistical analysis of the historical data of low-level radioactive waste shipment times from the licensee's site to the disposal site.

3.0 Discussion

The proposed action would grant an exemption to extend the 20-day investigation and reporting requirements for shipments of low-level radioactive waste to 35 days. Since 1999, SCE has made over 150 shipments of low-level radioactive waste as part of the decommissioning efforts at the facility. MHF Logistical Solutions is the rail broker company used by SCE to perform these shipments. MHF Logistical Solutions has a tracking system that monitors the progress of the shipments from their originating point at SONGS to their final destination at Envirocare of Utah, Inc. The shipments are made by either rail or combination truck/rail and, according to SCE, the transportation time alone takes over 16 days on average, with one shipment taking 57 days.

In addition, administrative procedures at Envirocare and mail delivery can add up to 11 additional days. Based on historical data and estimates of the remaining waste at SONGS Unit 1, SCE could have to perform over 100 investigations and reports to the NRC during the next five years if the 20-day notification criteria is maintained. The licensee affirms that the low-level radioactive waste shipments will always be tracked throughout transportation until they arrive at their intended destination. SCE believes that the need to investigate, trace, and report to the NRC on the shipment of low-level radioactive waste packages not reaching their destination within 20 days does not serve the underlying purpose of the rule and is not necessary. As a result, SCE states that granting this exemption will not result in an undue hazard to life or property.

Pursuant to 10 CFR 20.2301, the Commission may, upon application by a licensee or upon its own initiative, grant an exemption from the requirements of regulations in 10 CFR Part 20 if it determines the exemption is authorized by law and would not result in undue hazard to life or property. There are no provisions in the Atomic Energy Act (or in any other Federal statute) that impose a requirement to investigate and report on low-level radioactive waste shipments that have not been acknowledged by the recipient within 20 days of transfer. Therefore, the Commission concludes that there is no statutory prohibition on the issuance of the requested exemption and the Commission is authorized to grant the exemption by law.

The Commission acknowledges that based on the statistical analysis of low-level radioactive waste shipments from the SONGS site, the need to investigate and report on shipments that take longer than 20 days could result in an excessive administrative burden on the licensee. The Commission asserts that the underlying purpose of the rule is to investigate a late shipment that may be lost, misdirected, or diverted. Because of the oversight and monitoring of radioactive waste shipments throughout the entire journey from SONGS to the disposal site, it is unlikely that a shipment could be lost, misdirected, or diverted without the knowledge of the carrier or SCE. Furthermore, by extending the elapsed time for receipt acknowledgment to 35 days before requiring investigations and reporting, a reasonable upper limit on shipment duration (based on historical analysis) is still maintained if a breakdown of normal tracking systems were to occur. Consequently, the Commission finds that there is no hazard to life or property by extending the investigation and reporting time for low-level radioactive waste shipments from 20 days to 35 days for rail and combination truck/rail shipments. Therefore, the Commission concludes that the underlying purpose of 10 CFR Part 20, Appendix G, Section III.E will be met.

4.0 Conclusion

Accordingly, the Commission has determined that, pursuant to 10 CFR 20.2301, the exemption requested by SCE in its January 26, 2004, letter is authorized by law and will not result in undue hazards to life or property. Therefore, the Commission hereby grants SCE an exemption to extend the 20-day investigation and reporting requirements for shipments of low-level radioactive waste, as required by 10 CFR Part 20, Appendix G, Section III.E, to 35 days.

Pursuant to 10 CFR 51.31, the Commission has determined that the granting of this exemption will not have a significant effect on the quality of the human environment as documented in Federal Register notice 69 FR 23229 (April 28, 2004).

This exemption is effective upon issuance.

Dated at Rockville, Maryland this 2nd day of June, 2004.
For the Nuclear Regulatory Commission.
Daniel M. Gillen,
Acting Director, Division of Waste Management and Environmental Protection, Office of Nuclear Material Safety and Safeguards.

[FR Doc. 04-13367 Filed 6-14-04; 8:45 am]

BILLING CODE 7590-01-P